FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012157-002.

Title: CSCL/CMA CGM Slot Exchange Agreement Asia—U.S. East Coast.

Parties: China Shipping Container Lines Co., Ltd., China Shipping Container Lines (Hong Kong) Co., Ltd., and CMA CGM S.A.

Filing Party: Draughn B. Arbona, Esq., Senior Counsel, CMA CGM (America), Inc. 5701 Lake Wright Drive, Norfolk, VA 23502-1868.

Synopsis: The amendment reduces the slot allocation of each party on their respective services.

Agreement No.: 012284.

Title: CSAV/Norasia/HLAG Jamaica Space Charter Agreement.

Parties: Compania Sud America de Vapores S.A.; Norasia Container Lines Limited; and Hapag-Lloyd AG.

Filing Party: Wayne Rohde, Esq.; Cozen O'Connor; 1627 I Street NW., Suite 1100; Washington, DC 20006.

Synopsis: The agreement authorizes Hapag-Lloyd to charter space to CSAV and Norasia in the trade between the U.S. East Coast and Jamaica.

By Order of the Federal Maritime Commission.
Dated: June 13, 2014.
Karen V. Gregory,
Secretary.

[FR Doc. 2014-14254 Filed 6-17-14; 8:45 am]

BILLING CODE P